DEPARTMENT OF TRANSPORTATION

Federal Aviation Administration

Notice of Submission Deadline for Schedule Information for Los Angeles International Airport, O'Hare International Airport, San Francisco International Airport, John F. Kennedy International Airport, and Newark Liberty International Airport for the Winter 2015 Scheduling Season

AGENCY: Federal Aviation Administration (FAA), Department of Transportation.

ACTION: Notice of submission deadline.

SUMMARY: Under this notice, the FAA announces the submission deadline of May 21, 2015, for winter 2015-2016 flight schedules at Los Angeles International Airport (LAX), Chicago's O'Hare International Airport (ORD), San Francisco International Airport (SFO), New York's John F. Kennedy International Airport (JFK), and Newark Liberty International Airport (EWR) in accordance with the International Air Transport Association (IATA) Worldwide Slot Guidelines. The deadline coincides with the schedule submission deadline for the IATA Slot Conference for the winter 2015 scheduling season.

SUPPLEMENTARY INFORMATION: The FAA has designated LAX, ORD, and SFO as IATA Level 2 airports and JFK and EWR as IATA Level 3 airports. The FAA currently limits scheduled operations at JFK and EWR by Order until a final Slot Management and Transparency Rule for LaGuardia Airport, John F. Kennedy International Airport, and Newark Liberty International Airport (RIN 2120-AJ89) becomes effective but not later than October 29, 2016.¹

¹ Operating Limitations at John F. Kennedy International Airport, 73 FR 3510 (Jan. 18, 2008) as amended 79 FR 16854 (March 26, 2014); Operating Limitations at Newark Liberty International Airport, 73 FR 29550 (May 21, 2008) as amended 79 FR 16857 (March 26, 2014).

The FAA is primarily concerned about planned passenger and cargo operations and other regularly conducted commercial operations during peak hours, but carriers may submit schedule plans for the entire day. At ORD, the peak hours are 0700 to 2100 Central Time (1300 to 0300 UTC), at LAX and SFO from 0600 to 2300 Pacific Time (1400 to 0700 UTC), and at EWR and JFK from 0600 to 2300 Eastern Time (1100 to 0400 UTC). Carriers should submit schedule information in sufficient detail including, at a minimum, the operating carrier, flight number, scheduled time of operation, frequency, and effective dates. IATA standard schedule information format and data elements (Standard Schedules Information Manual or SSIM) may be used.

The U.S. winter scheduling season for these airports is from October 25, 2015, through March 26, 2016, in recognition of the IATA northern winter period. The FAA understands there may be differences in slot times due to different U.S. daylight saving time dates and will accommodate these differences to the extent possible.

At LAX, there will be runway construction during the winter scheduling season. The FAA is reviewing the potential changes to the runway capacity and other operational impacts of the construction projects.

DATES: Schedules must be submitted no later than May 21, 2015.

ADDRESSES: Schedules may be submitted by mail to the Slot Administration Office, AGC-200, Office of the Chief Counsel, 800 Independence Avenue SW., Washington, DC 20591; facsimile: 202-267-7277; or by email to: 7-AWA-slotadmin@faa.gov.

FOR FURTHER INFORMATION CONTACT: Susan Pfingstler, System Operations Services, Air Traffic Organization, Federal Aviation Administration, 600 Independence Avenue SW., Washington, DC 20591; telephone number: 202-267-6462; email: susan.pfingstler@faa.gov.

Issued in Washington, DC, on April 10, 2015.
Mark W. Bury,
Assistant Chief Counsel for Regulations.

[FR Doc. 2015-08927 Filed 4-16-15; 8:45 am]

BILLING CODE 4910-13-P